NATIONAL AERONAUTICS AND SPACE ADMINISTRATION

[Notice 16-017]

National Environmental Policy Act; Center Master Plan Update; Kennedy Space Center

AGENCY: National Aeronautics and Space Administration (NASA).

ACTION: Notice of Availability of the Draft Programmatic Environmental Impact Statement (DPEIS) for the Center Master Plan (CMP) Update covering Center-wide Operations, Kennedy Space Center (KSC), Titusville, Florida.

SUMMARY: Pursuant to the National Environmental Policy Act, as amended, (NEPA) (42 U.S.C. 4321 et seq.), the Council on Environmental Quality Regulations for Implementing the Procedural Provisions of NEPA (40 CFR parts 1500-1508), and NASA's NEPA policy and procedures (14 CFR part 1216, subpart 1216.3), NASA has prepared and issued a DPEIS for its continued operation of the Kennedy Space Center, located near Titusville, Florida. The U.S. Fish and Wildlife Service (USFWS), National Park Service (NPS), Federal Aviation Administration (FAA), and Space Florida have served as Cooperating Agencies in preparing the DPEIS.

The purpose of this notice is to apprise interested agencies, organizations, tribal governments, and individuals of the availability of the DPEIS and to invite comments on the document. In cooperation with USFWS and NPS, NASA will hold public meetings as part of the DPEIS review process. The meeting locations and dates are provided under SUPPLEMENTARY INFORMATION below.

DATES: Interested parties are invited to submit comments on environmental issues and concerns, preferably in writing, within forty-five (45) days from the date of publication in the Federal Register of the U.S. Environmental Protection Agency's Notice of Availability of the DPEIS. Once known, this date will be published on the project Web site: http://environmental.ksc.nasa.gov/projects/peis.htm.

ADDRESSES: Comments submitted by mail should be addressed to National Aeronautics and Space Administration, Kennedy Space Center, ATTN: Donald Dankert, Environmental Management Branch, SI-E3, Kennedy Space Center, FL 32899. Comments may be submitted via email to ksc-dl-centerwide-eis@mail.nasa.gov.

The DPEIS may be reviewed at the following locations:

(a) Titusville Public Library, 2121 S. Hopkins Avenue Titusville, Florida 32780 (321-264-5026)

(b) Cape Canaveral Public Library, 201 Polk Avenue, Cape Canaveral, Florida 32920 (321-868-1101)

(c) Cocoa Beach Public Library, 550 North Brevard Avenue, Cocoa Beach, Florida 32931(321-868-1104)

(d) Merritt Island Public Library, 1195 North Courtenay Parkway, Merritt Island, Florida 32953 (321-455-1369)

(e) Port St. John Public Library, 6500 Carole Avenue, Port St. John, Florida 32927 (321-633-1867)

(f) New Smyrna Beach Public Library, 1001 S. Dixie Freeway, New Smyrna Beach, FL 32168 (386-424-2910)

(g) NASA Headquarters Library, Room 1J20, 300 E Street SW., Washington, DC 20546-0001 (202-358-0168)

A limited number of hard copies and compact discs of the DPEIS are available, on a first request basis, by contacting the NASA point of contact listed under FOR FURTHER INFORMATION. The DPEIS is available on the internet in Adobe® portable document format at http://environmental.ksc.nasa.gov/projects/peis.htm. The Federal Register Notice of Intent to prepare the Programmatic Environmental Impact Statement (PEIS), issued on May 20, 2014, is also available on the internet at the same Web site address, as well as at: https://www.gpo.gov/fdsys/pkg/FR-2014-05-20/pdf/2014-11565.pdf.

FOR FURTHER INFORMATION CONTACT: Mr. Donald Dankert, Environmental Management Branch, NASA Kennedy Space Center, Mail Code: SI-E3, Kennedy Space Center, FL 32899, Email: Donald.J.Dankert@nasa.gov, Telephone: (321) 861-1196.

SUPPLEMENTARY INFORMATION: The PEIS has been prepared to evaluate the potential environmental impacts from proposed Center-wide KSC operations, activities, and facilities for a two-decade planning horizon. These operations, activities, and facilities are described in the 2012 CMP, which has a planning horizon of 2012-2032. The CMP considers a range of future scenarios for repurposing existing facilities, recapitalizing infrastructure, reorganizing the management of KSC and its land resources, and various kinds of partnerships (some of which are already in place).

In the coming years, KSC will remain the world's preeminent launch facility for Government and commercial space access. KSC will support NASA, and ultimately our Nation's competitiveness, by investing in next-generation technologies and encouraging innovation. KSC will foster partnerships—intergovernmental, commercial, academic, and international—to expand its ability to support both public and private space initiatives. These institutional efforts and initiatives necessitate changes to the infrastructure, facilities, and operations at KSC over the coming decades which are identified in a new CMP Update that has been developed by the Center Planning and Development Office.

Alternatives

The DPEIS evaluates the environmental consequences of three alternative means of managing KSC for the coming two decades:

(1) Proposed Action—KSC would continue to transition to a multi-user spaceport. A number of new facilities would be constructed, including two seaports and horizontal and vertical launch and landing facilities. There would be changes in the acreage of designated land-use categories at KSC.

(2) Alternative 1—This was added as a direct response to concerns expressed in comments received during the PEIS public scoping period in June 2014, as well as other observations and data acquired from stakeholders and other agencies during the scoping process. Alternative 1 is similar to the Proposed Action in many regards, but is differentiated in several key respects: Primarily, differences in the siting and size of vertical and horizontal launch and landing facilities. Also, the two new seaports would not be constructed. At this time, Alternative 1 is NASA's preferred alternative.

(3) No Action Alternative—KSC management would continue its emphasis on dedicated NASA programs and would not maximize its transition in the coming years towards a multi-user spaceport with fully-integrated NASA programs and non-NASA users. Rather, each NASA program would continue to be operated as an independent entity to a significant degree, to be funded separately, and to manage activities and buildings in support of its own program. Under this scenario there would continue to be a non-NASA presence at KSC.

Public Meetings

NASA and its Cooperating Agencies plan to hold two public meetings in Florida to solicit comments on the DPEIS.

The public meetings are currently scheduled for:

—Tuesday, March 29, 2016, 5:00 p.m. to 8:00 p.m. at the at the Eastern Florida State College Titusville Campus, John Henry Jones Gymnasium;

—Wednesday, March 30, 2016, 5:00 p.m. to 8:00 p.m. at the New Smyrna Beach High School Gymnasium, 1015 Tenth Street New Smyrna Beach.

The meeting format will include an open-house workshop from 5:00 p.m. to 6:00 p.m. KSC staff and the Environmental Impact Statement (EIS) contractor will provide an overview of the DPEIS findings from 6:00 p.m. to 6:15 p.m., followed by a public comment period from 6:15 p.m. to 8:00 p.m. The open-house workshop will consist of poster stations describing the proposed project, the NEPA process, and the DPEIS findings. NASA KSC and cooperating agencies' staff will be present during the open-house workshop portion to accept comments.

NASA will consider all comments received during the comment period in developing its Final EIS and comments received and responses to comments will be included in the final document. In conclusion, written public input on environmental issues and concerns associated with NASA's DPEIS analyzing its CMP Update are hereby requested.

Cheryl E. Parker,
Federal Register Liaison Officer.

[FR Doc. 2016-04454 Filed 3-3-16; 8:45 am]

BILLING CODE 7510-13-P